FEDERAL TRADE COMMISSION

Agency Information Collection Activities; Submission for OMB Review; Comment Request

AGENCY: Federal Trade Commission (“FTC” or “Commission”).

ACTION: Notice; request for comments.

SUMMARY: The FTC intends to ask the Office of Management and Budget (“OMB”) to extend for an additional three years the current Paperwork Reduction Act (“PRA”) clearance for the information collection requirements in the Children's Online Privacy Protection Act Rule (“COPPA Rule” or “Rule”), which will expire on January 31, 2019.

DATES: Comments must be submitted by March 6, 2019.

ADDRESSES: Interested parties may file a comment online or on paper by following the instructions in the Request for Comment part of the SUPPLEMENTARY INFORMATION section below. Write “COPPA Rule: Paperwork Comment, FTC File No. P155408” on your comment, and file your comment online at https://ftcpublic.commentworks.com/ftc/coppapra2, by following the instructions on the web-based form. If you prefer to file your comment on paper, mail your comment to the following address: Federal Trade Commission, Office of the Secretary, 600 Pennsylvania Avenue NW, Suite CC-5610 (Annex J), Washington, DC 20580, or deliver your comment to the following address: Federal Trade Commission, Office of the Secretary, Constitution Center, 400 7th Street SW, 5th Floor, Suite 5610 (Annex J), Washington, DC 20024.

FOR FURTHER INFORMATION CONTACT: Requests for additional information should be addressed to Peder Magee, Attorney (202-326-3538), Division of Privacy and Identity Protection, Bureau of Consumer Protection, Federal Trade Commission, 600 Pennsylvania Avenue NW, Washington, DC 20580.

SUPPLEMENTARY INFORMATION:

Title: COPPA Rule, 16 CFR part 312.

OMB Control Number: 3084-0117.

Type of Review: Extension of currently approved collection.

Abstract: Pursuant to the OMB regulations, 5 CFR part 1320, that implement the PRA, 44 U.S.C. 3501 et seq., the FTC is providing a second opportunity for public comment while seeking OMB approval to renew the pre-existing clearance for the Rule. The COPPA Rule, 16 CFR part 312, requires commercial websites to provide notice and obtain parents' consent before collecting, using, and/or disclosing personal information from children under age 13, with limited exceptions. The COPPA Rule contains certain statutorily required notice requirements that apply to operators of any website or online service directed to children and operators of any website or online service with actual knowledge of collecting personal information from children. Covered operators must: Provide online notice and direct notice to parents of how they collect, use, and disclose children's personal information; obtain the prior consent of the child's parent in order to engage in such collection, use, and disclosure, with limited exceptions; provide reasonable means for the parent to obtain access to the information and to direct its deletion; and, establish procedures that protect the confidentiality, security, and integrity of personal information collected from children.

On October 2, 2018, the FTC sought its initial public comment on the information collection requirements associated with the Rule.¹ Two commenters provided suggestions regarding the Rule's substantive requirements for covered operators. The Commission periodically reviews the Rule to ensure that it effectively protects children's online privacy, as directed by Congress, as new online technologies evolve, and to clarify existing obligations for operators under the Rule. For example, the Commission substantively revised the Rule in 2013.² The Commission will take these two comments under advisement in evaluating the Rule's continued effectiveness. The other comments were non-germane.

¹ 83 FR 49557 (October 2, 2018).

² 78 FR 3972, 4005 (Jan. 17, 2013).

The associated burden estimates in the statement below concern strictly recurring compliance obligations under the COPPA Rule.

Burden Statement ³

³ Details underlying the estimates within this Burden Statement can be found in the October 2, 2018 Federal Register Notice.

1. Estimated annual hours burden: 17,700 hours.

(a) New entrant web operators' disclosure burden: 16,800 hours.

(b) Safe harbor applicant reporting requirements: 100 hours, rounded (for an estimated one additional safe harbor applicant).

(c) Annual audit and report for safe harbor programs: 800 hours.

(d) Safe harbor program recordkeeping requirements: 0 or minimal.

2. Estimated annual labor costs: $5,768,900.

(a) New entrant web operators' disclosure burden: $5,723,200.

(b) Safe harbor applicant reporting requirements: $18,500.

(c) Annual audit and report for safe harbor programs: $27,200.

(d) Safe harbor program recordkeeping requirements: $0 or marginal.

3. Estimated annual non-labor costs: $0.

Request for Comments

You can file a comment online or on paper. For the FTC to consider your comment, we must receive it on or before March 6, 2019. Write “COPPA Rule: Paperwork Comment, FTC File No. 155408” on your comment. Your comment—including your name and your state—will be placed on the public record of this proceeding, including, to the extent practicable, on the public FTC website, at http://www.ftc.gov/os/publiccomments.shtm.

Postal mail addressed to the Commission is subject to delay due to heightened security screening. As a result, we encourage you to submit your comments online, or to send them to the Commission by courier or overnight service. To make sure that the Commission considers your online comment, you must file it at https://ftcpublic.commentworks.com/ftc/coppapra2 by following the instructions on the web-based form. When this Notice appears at http://www.regulations.gov/#!home, you also may file a comment through that website.

If you file your comment on paper, write “COPPA Rule: Paperwork Comment, FTC File No. 155408” on your comment and on the envelope, and mail it to the following address: Federal Trade Commission, Office of the Secretary, 600 Pennsylvania Avenue NW, Suite CC-5610 (Annex J), Washington, DC 20580, or deliver your comment to the following address: Federal Trade Commission, Office of the Secretary, Constitution Center, 400 7th Street SW, 5th Floor, Suite 5610 (Annex J), Washington, DC 20024. If possible, submit your paper comment to the Commission by courier or overnight service.

Because your comment will be placed on the publicly accessible FTC website at https://www.ftc.gov/, you are solely responsible for making sure that your comment does not include any sensitive or confidential information. In particular, your comment should not include any sensitive personal information, such as your or anyone else's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by Section 6(f) of the FTC Act, 15 U.S.C. 46(f), and FTC Rule 4.10(a)(2), 16 CFR 4.10(a)(2)—including in particular competitively sensitive information such as costs, sales statistics, inventories, formulas, patterns, devices, manufacturing processes, or customer names.

Comments containing material for which confidential treatment is requested must be filed in paper form, must be clearly labeled “Confidential,” and must comply with FTC Rule 4.9(c). In particular, the written request for confidential treatment that accompanies the comment must include the factual and legal basis for the request, and must identify the specific portions of the comment to be withheld from the public record. See FTC Rule 4.9(c). Your comment will be kept confidential only if the General Counsel grants your request in accordance with the law and the public interest. Once your comment has been posted on the public FTC website—as legally required by FTC Rule 4.9(b)—we cannot redact or remove your comment from the FTC website, unless you submit a confidentiality request that meets the requirements for such treatment under FTC Rule 4.9(c), and the General Counsel grants that request.

The FTC Act and other laws that the Commission administers permit the collection of public comments to consider and use in this proceeding as appropriate. The Commission will consider all timely and responsive public comments that it receives on or before March 6, 2019. For information on the Commission's privacy policy, including routine uses permitted by the Privacy Act, see https://www.ftc.gov/site-information/privacy-policy. For supporting documentation and other information underlying the PRA discussion in this Notice, see http://www.reginfo.gov/public/jsp/PRA/praDashboard.jsp.

Comments on the information collection requirements subject to review under the PRA should additionally be submitted to OMB. If sent by U.S. mail, they should be addressed to Office of Information and Regulatory Affairs, Office of Management and Budget, Attention: Desk Officer for the Federal Trade Commission, New Executive Office Building, Docket Library, Room 10102, 725 17th Street NW, Washington, DC 20503. Comments sent to OMB by U.S. postal mail, however, are subject to delays due to heightened security precautions. Thus, comments instead can also be sent by email to wliberante@omb.eop.gov.

Heather Hippsley,
Deputy General Counsel.

[FR Doc. 2019-00904 Filed 2-1-19; 8:45 am]

BILLING CODE 6750-01-P